DEPARTMENT OF STATE

[Public Notice: 11837]

Industry Advisory Group: Notice of Open Meeting

The Industry Advisory Group (IAG) of the Bureau of Overseas Buildings Operations (OBO), U.S. Department of State, will meet on Thursday, September 15, 2022, from 9:30 a.m. until 4:00 p.m. Eastern Daylight Time. The meeting is open to the public and will be held in-person at the U.S. Department of State, located at 2201 C Street NW, Washington, DC.

This committee serves the U.S. government in a solely advisory capacity concerning industry and academia's latest concepts, methods, best practices, innovations, and ideas related to the OBO mission of providing safe, secure, functional, and resilient facilities that represent the U.S. government to the host nation and support the Department's achievement of U.S. foreign policy objectives abroad.

The meeting will serve as the annual meeting contemplated by the IAG Charter. The majority of the meeting will be devoted to discussions between the Department's senior management and IAG representatives with respect to industry and academia's latest concepts, methods, best practices, innovations, and ideas related to supporting OBO's vital mission. Additionally, time will be provided for members of the public to provide comment.

The public may attend this meeting in-person as seating capacity allows. Admittance to the State Department building will be by means of a pre-arranged clearance list. An open registration announcement will be posted on OBO's website, www.state.gov/obo, and sent through OBO's distribution list approximately 30 days prior to the event date. Those interested in joining OBO's distribution list for additional information on the IAG meeting and other events can sign up at https://visitor.r20.constantcontact.com/manage/optin?v=001d8EWtZhzr9vk2LP58NdScTQkB3xh8MgQtPak2ggYZjmdWSw6Hjj3BVXcLPZCovDo0wUdyb9h8VCs90ZQ6UFCLTtKCJfYnpwN3Q_V5mw0PiM%3D.

Please forward any requests for reasonable accommodation by September 1. You can also visit the OBO website at www.state.gov/obo for additional information. Requests for reasonable accommodation made after that date will be considered but may not be able to be fulfilled.

Please contact luckettla@state.gov with any questions.

Rollie Miller,
Chief of Staff, Bureau of Overseas Buildings Operations, Department of State.

[FR Doc. 2022-18590 Filed 8-29-22; 8:45 am]

BILLING CODE 4710-51-P